DEPARTMENT OF DEFENSE

48 CFR Part 250

[DFARS Case 2000-D016]

Defense Federal Acquisition Regulation Supplement; Repeal of Reporting Requirements Under Public Law 85-804

AGENCY: Department of Defense (DoD).

ACTION: Final rule.

SUMMARY: The Director of Defense Procurement has issued a final rule amending the Defense Federal Acquisition Regulation Supplement (DFARS) to remove policy on submission of reports to Congress regarding contractor requests for extraordinary contractual relief. The statutory requirement for these reports has been repealed.

EFFECTIVE DATE: July 31, 2000.

FOR FURTHER INFORMATION CONTACT: Mr. Rick Layser, Defense Acquisition Regulations Council, OUSD (AT&L) DP (DAR), IMD 3D139, 3062 Defense Pentagon, Washington, DC 20301-3062. Telephone (703) 602-0293; telefax (703) 602-0350. Please cite DFARS Case 2000-D016.

SUPPLEMENTARY INFORMATION:

A. Background

This final rule removes DFARS 250.104. This section contained requirements for preparation of reports to Congress regarding actions taken on contractor requests for relief under the authority of Public Law 85-804. Section 901(r)(1) of the Federal Reports Elimination Act of 1998 (Public Law 105-362) repealed this reporting requirement, formerly found at 50 U.S.C. 1434.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affects DFARS subpart in accordance with 5 U.S.C. 610. Such comments should cite DFARS Case 2000-D016.

C. Paperwork Reduction Act

The Paperwork Reduction Act does not apply because the rule does not impose any information collection requirements that require the approval of the Office of Management and Budget under 44 U.S.C. 3501, et seq.

List of Subjects in 48 CFR Part 250

Government procurement.

Michele P. Peterson,
Executive Editor, Defense Acquisition Regulations Council.

Therefore, 48 CFR part 250 is amended as follows:

1. The authority citation for 48 CFR part 250 continues to read as follows:

Authority: 41 U.S.C. 421 and 48 CFR Chapter 1.

PART 250—EXTRAORDINARY CONTRACTUAL ACTIONS

250.104 [Removed]

2. Section 250.104 is removed.

[FR Doc. 00-19110 Filed 7-28-00; 8:45 am]

BILLING CODE 5000-04-M